DEPARTMENT OF ENERGY

International Energy Agency Meetings

AGENCY: Department of Energy.

ACTION: Notice of meetings.

SUMMARY: The Industry Advisory Board (IAB) to the International Energy Agency (IEA) will meet on November 27-29, 2018.

DATES: November 27-29, 2018.

ADDRESS: French Ministry for the Ecological and Inclusive Transition, Tour Séquoia, Place Carpeaux, La Défense, Paris, France; UIC-P Conference Centre, 16 rue Jean Rey, 75015, Paris, France.

FOR FURTHER INFORMATION CONTACT: Thomas Reilly, Assistant General Counsel for International and National Security Programs, Department of Energy, 1000 Independence Avenue SW, Washington, DC 20585, (202) 586-5000.

SUPPLEMENTARY INFORMATION: In accordance with section 252(c)(1)(A)(i) of the Energy Policy and Conservation Act (42 U.S.C. 6272(c)(1)(A)(i)) (EPCA), the following notice of meetings is provided:

A meeting involving members of the Industry Advisory Board (IAB) to the International Energy Agency (IEA) in connection with a workshop meeting of the IEA's Standing Group on Emergency Questions (SEQ) will be held at the French Ministry for the Ecological and Inclusive Transition, Tour Séquoia, Place Carpeaux, La Défense, Paris, France, on November 27, 2018. The purpose of the workshop meeting, which is a follow up from the workshop meeting held on September 18-19, 2018, is to discuss relevant key issues in order to establish a basis for drafting a proposal for possible improvements to the emergency oil stockholding requirement.

The agenda of the meeting is under the control of the IEA. It is expected that the IEA will adopt the following agenda:

Draft Agenda of the IEA's Workshop on the Review of the IEA Emergency Oil Stockholding Requirement

—Introduction by the Chairman

—Presentation by Secretariat:

—Overview of key considerations taken when developing different approaches

—Presentation and opportunity for clarification

—Overview of each approach option presented in background paper, followed by opportunity to ask questions for clarification

Discussion of Option 1

—Open floor discussion moderated by Chairman

Discussion of Option 2

—Open floor discussion moderated by Chairman

Discussion of Option 3

—Open floor discussion moderated by Chairman

Session 3—Reaching conclusion on the proposal for the SEQ and the GB

Wrap-Up and Next Steps

As provided in section 252(c)(1)(A)(ii) of the Energy Policy and Conservation Act (42 U.S.C. 6272(c)(1)(A)(ii)), Representatives of the Directorate-General for Competition of the European Commission and representatives of members of the IEA Group of Reporting Companies may attend the meeting as observers. The meeting will also be open to representatives of the Secretary of Energy, the Secretary of State, the Attorney General, and the Federal Trade Commission severally, to any United States Government employee designated by the Secretary of Energy, and to the representatives of Committees of the Congress.

A meeting of the Industry Advisory Board (IAB) to the International Energy Agency (IEA) will be held at the French Ministry for the Ecological and Inclusive Transition, Tour Séquoia, Place Carpeaux, La Défense, Paris, France, commencing at 9:30 a.m. on November 28, 2018. The purpose of this notice is to permit attendance by representatives of U.S. company members of the IAB at a meeting of the IEA's Standing Group on Emergency Questions (SEQ), which is scheduled to be held at the same location and time. The IAB will also hold a preparatory meeting among company representatives at the same location at 8:30 a.m. on November 28. The agenda for this preparatory meeting is to review the agenda for the SEQ meeting.

The agenda of the SEQ meeting is under the control of the SEQ. It is expected that the SEQ will adopt the following agenda:

Draft Agenda of the 155th Meeting of the SEQ

Closed SEQ Session—IEA Member Countries Only

1. Adoption of the Agenda

2. Approval of the Summary Record of the 154th Meeting

3. Status of Compliance with IEP Agreement Stockholding Obligations—Presentation by the Secretariat

4. The Future of Petrochemicals; IEA Report

5. Industry Advisory Board Update

6. Update on the Ministerial Mandates/Oil Stockholding System Review

7. Mid-term Review of the Slovak Republic

Open SEQ Session—Open to Association Countries

8. ERR of Ireland—Presentation by the Secretariat

9. ASEAN+6 Report—Presentation by the Secretariat

10. Mid-term Review of Hungary—Presentation by the Administration

11. Outreach—Presentation by the Secretariat

12. Oral Reports by Administrations:

Turkey; Stockholding obligation update:

Japan; Hokkaido black-out:

Belgium; Nuclear power plants:

The Netherlands; L-cal gas production:

Germany, Switzerland and France; stock releases due to low water level in Rhine

13. Input from Standing Groups & Committees for the 2019 IEA Ministerial

14. Other Business:

—ERR Programme

Schedule of upcoming SEQ & SOM Meetings:

—19-21 March 2019

—25-27 June 2019

—22-24 October 2019

Representatives of the Directorate-General for Competition of the European Commission and representatives of members of the IEA Group of Reporting Companies may attend the meeting as observers. The meeting will also be open to representatives of the Secretary of Energy, the Secretary of State, the Attorney General, and the Federal Trade Commission severally, to any United States Government employee designated by the Secretary of Energy, and to the representatives of Committees of the Congress.

A meeting of the Industry Advisory Board (IAB) to the International Energy Agency (IEA) will be held in the UIC-P Conference Centre, 16 rue Jean Rey, 75015, Paris, France, on November 29, 2018, commencing at 09:30 a.m. The purpose of this notice is to permit attendance by representatives of U.S. company members of the IAB at a joint meeting of the IEA's Standing Group on Emergency Questions (SEQ) and the IEA's Standing Group on the Oil Market (SOM), which is scheduled to be held at the same location and time.

The agenda of the meeting is under the control of the SEQ and the SOM. It is expected that the SEQ and the SOM will adopt the following agenda:

Draft Agenda of the Joint Session of the SEQ and the SOM

Start Meeting/Introduction

15. Adoption of the Agenda

16. Approval of Summary Record of 27 June 2018

17. Reports on Recent Oil Market and Policy Developments in IEA Countries

18. Update on the Current Oil Market Situation: Followed by Q&A

19. Presentation: “Update on the implementation of the International Maritime Organisation's 2020 fuel specifications” followed by Q&A

20. Presentation: On “substitute Producer Economies” followed by Q&A

21. Presentation: Long term oil market outlook—Chevron, followed by Q&A

22. Presentation: “Uncertainty and Prosperity: A View from Unipec,” followed by Q&A

23. Presentation: “World Energy Investment 2018” followed by Q&A

24. Presentation: “Russian oil perspective” followed by Q&A

25. Other Business:

—Tentative schedule of the next SOM meeting: 21 March 2019, Location TBC

Representatives of the Directorate-General for Competition of the European Commission and representatives of members of the IEA Group of Reporting Companies may attend the meeting as observers. The meeting will also be open to representatives of the Secretary of Energy, the Secretary of State, the Attorney General, and the Federal Trade Commission severally, to any United States Government employee designated by the Secretary of Energy, and to the representatives of Committees of the Congress.

Signed in Washington, DC, November 16, 2018.
Thomas Reilly,
Assistant General Counsel for International and National Security Programs.

[FR Doc. 2018-25526 Filed 11-21-18; 8:45 am]

BILLING CODE 6450-01-P